MARINE MAMMAL COMMISSION

Sunshine Act Meeting Notice

TIME AND DATE: The Marine Mammal Commission will meet in open session on Friday, 14 December 2012, from 12:30 p.m. to 6:00 p.m.

PLACE: The National Marine Fisheries Service's main conference room (Room 445), Juneau Federal Building, 709 West 9th Street, Juneau, Alaska, 99802, telephone (907) 586-7221.

STATUS: The Commission expects that all portions of the meeting will be open to the public. It will allow public participation as time permits and as determined to be desirable by the Chairman. Should it be determined that it is appropriate to close a portion of the meeting to the public, any such closure will be carried out in accordance with applicable regulations (50 CFR § 560.5 and 560.6).

Seating for members of the public may be limited. The Commission therefore asks that those intending to attend the meeting advise it in advance by sending an email to the Commission at mmc@mmc.gov or by calling (301) 504-0087. Members of the public will need to present valid, government-issued photo identification to enter the building.

MATTERS TO BE CONSIDERED: The Commission plans to meet with regional management and scientific officials in each of the National Marine Fisheries Service's six regions to identify the most pressing marine mammal research and management needs. The Commission will use these meetings to develop a set of national priorities for guiding federal conservation efforts for marine mammals. Members of the public are invited to attend these meetings and to provide comments concerning priority issues. Those unable to attend any of the meetings may submit comments in writing. Written comments should be sent to Timothy J. Ragen, Executive Director, Marine Mammal Commission, 4340 East-West Highway, Room 700, Bethesda, Maryland 20814.

The Commission already has met with officials in from the National Marine Fisheries Service's Northeast Region. The second meeting will be held in the National Marine Fisheries Service's Alaska Region at the regional headquarters in Juneau, Alaska. Notices of other meetings will be published in the Federal Register and posted on the Commission's Web site (http://www.mmc.gov) when the dates and locations are determined.

CONTACT PERSON FOR MORE INFORMATION: Timothy J. Ragen, Executive Director, Marine Mammal Commission, 4340 East-West Highway, Room 700, Bethesda, MD 20814; (301) 504-0087; email: tragen@mmc.gov.

Dated: November 26, 2012.
Michael L. Gosliner,
General Counsel.

[FR Doc. 2012-28901 Filed 11-26-12; 4:15 pm]

BILLING CODE 6820-31-P